DEPARTMENT OF LABOR

Employment and Training Administration

[TA-W-65,677]

Jeld-Wen, Inc., Klamath Falls, OR; Notice of Termination of Investigation

Pursuant to Section 221 of the Trade Act of 1974, as amended, an investigation was initiated on March 25, 2009 in response to a worker petition filed by workers of Jeld-Wen, Inc., Klamath Falls, Oregon.

The petitioner has requested that the petition be withdrawn. Consequently, the investigation has been terminated.

Signed at Washington, DC, this 9th day of April 2009.
Elliott S. Kushner,
Certifying Officer, Division of Trade Adjustment Assistance.

[FR Doc. E9-10885 Filed 5-8-09; 8:45 am]

BILLING CODE 4510-FN-P